DEPARTMENT OF COMMERCE

National Oceanic and Atmospheric Administration

[I.D. 041504A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Assistant Regional Administrator for Sustainable Fisheries, Northeast Region, NOAA Fisheries (Assistant Regional Administrator), has determined that an application for EFPs contains all of the required information and warrants further consideration. The Assistant Regional Administrator is considering the impacts of the activities to be authorized under the EFPs with respect to the Northeast (NE) Multispecies Fishery Management Plan (FMP). However, further review and consultation may be necessary before a final determination is made to issue EFPs. Therefore, NMFS announces that the Assistant Regional Administrator proposes to issue EFPs in response to an application submitted by the Cape Cod Commercial Hook Fisherman's Association (CCCHFA), in collaboration with Massachusetts Division of Marine Fisheries (DMF), and Research, Environmental and Management Support (REMSA). These EFPs would allow up to 31 vessels to fish for haddock using longline gear or jig gear in portions of the following closed areas during the period of May 2004 through February 2005: Cashes Ledge Closure Area, Western Gulf of Maine Closure Area (WGOM), Georges Bank (GB) Closed Area I (CA I), GB Closed Area II (CA II), and in Rolling Closure Area III. The study will take place at various times during the months of January, February, and May through September 2004, as listed in the table below. The purpose of the proposed study is to determine if hook-and-line gear could be used to target haddock with minimal bycatch of cod in order to establish Special Access Programs (SAPs) proposed under Amendment 13 to the FMP.

DATES: Comments on this action must be received at the appropriate address or fax number (see ADDRESSES) on or before May 7, 2004.

ADDRESSES: Written comments should be sent to Patricia A. Kurkul, Regional Administrator, NMFS, NE Regional Office, 1 Blackburn Drive, Gloucester, MA 01930. Mark the outside of the envelope “Comments on Haddock SAP EFP Proposal.” Comments may also be sent via fax to (978) 281-9135, or submitted via e-mail to the following address: da448@noaa.gov.

Copies of the Environmental Assessment (EA) are available from the NE Regional Office at the same address.

FOR FURTHER INFORMATION CONTACT: Heather Sagar, Fishery Management Specialist, phone: 978-281-9341, fax: 978-281-9135, e-mail: heather.sagar@noaa.gov.

SUPPLEMENTARY INFORMATION: CCCHFA, in collaboration with Massachusetts DMF, and REMSA, submitted a request on March 5, 2004, to conduct an exempted fishery for GB haddock within portions of Rolling Closure Area III, Cashes Ledge Closure Area, WGOM, GB CA I, and GB CA II. The purpose of the proposed study is to determine if hook-and-line gear could be used to target haddock with minimal bycatch of cod in order to establish SAPs. This proposal builds on an ongoing study that began on October 1, 2003, and which proposes to end on September 30, 2004. Preliminary results from this ongoing study demonstrate the viability of utilizing hook-and-line gear to reduce bycatch of cod in a portion of GB CA I.

The CCCHFA's most recent proposal requests authorizing 31 commercial hook-and-line vessels to fish for and possess haddock in the additional areas listed above during the time period May 1, 2004, through February 28, 2005. The study proposed that vessels would fish under a hard Total Allowable Catch (TAC) allocation of 788 mt of haddock and 39.4 mt of Atlantic cod. Similar to the first two portions of this experiment, Days-At-Sea (DAS) would be used. Throughout this study, CCCHFA hopes to determine the appropriate season, bait, and location for a directed haddock fishery in the above identified areas that would have minimal impact on other groundfish stocks, particularly GB cod, for the purpose of developing a SAP. Participating vessels would be prohibited from fishing in areas outside of the identified areas during an experimental fishing trip. This study would follow normal fishing practices. The experimental fishery would be terminated if any of the proposed TACs are exceeded.

Proposed Study Areas and Seasons
Ref. # | Area | Closure Type | Duration | Location | # Trips | # DAS per Trip | Haddock | Cod
I | Rolling Closure III | Seasonal | 5/04 - 6/04 | 43°15′ X 69°52′ 43°18′ X 69°40′ 43°13′ X 69°17′ 42°58′ X 69°40′ | 16 | 1/2 DAS/Trip | 32 mt | 1.6 mt
II | Cashes | Year-Round | 12/04 - 2/05 5/04 - 9/04 | Entire Cashes Closed Area | 64 | 1 DAS/Trip | 128 mt | 6.4 mt
III | WGOM | Year-Round | 5/04 - 6/04 12/04 - 2/05 | WGOM: North of 42°35′ South of 43°00′ | 40 | 1/2 DAS/Trip | 80 mt | 4 mt
IV | GB CAI | Year-Round | 10/04 - 12/04 | CAI: North of Loran 43660 | 24 | 1/2 DAS/Trip | 48 mt | 2.4 mt
V | GB CAII | Year-Round | 5/04 - 9/04 | CAII: North of 42°00′ | 40 | 1 DAS/Trip | 200 mt | 10 mt
VI | GB CAII | Year-Round | 10/04 - 2/05 | CAII: North of 41°40′ | 40 | 3 DAS/Trip | 300 mt | 15 mt
TOTAL |  |  |  |  | 244 trips | 264 DAS | 788 mt | 39.4 mt

The applicant estimates that longline trips would average 4,470 lb (2,027.6 kg) of haddock and less then 300 lb (136.1 kg) of cod daily. Jig trips are estimated to land a maximum of 2,000 lb (907.2 kg) of haddock and less then 100 lb (45.4 kg) of cod daily. All fish landed would be subject to the minimum size. Although the applicant would be exempt from the haddock trip limits, they would not be exempt from the cod trip limit requirements.

REMSA scientific staff would be present on board each participating vessel, equating to 100-percent scientific data collector coverage for this experimental fishery. Scientific data collectors would be responsible for collecting all biological and environmental data on NMFS observer forms. CCCHFA would develop a full report of results and would submit this information to the Regional Office monthly. The EFPs would contain a provision that the RA has the authority to discontinue the proposed experimental fishery at any time, e.g., the RA would terminate the EFP should the individual closed area TACs, or the overall TACs of 39.4 mt for GB cod and 788 mt for GB haddock, be exceeded.

A draft EA has been prepared that analyzes the impacts of the proposed experimental fishery on the human environment. This draft EA concludes that the activities proposed to be conducted under the requested EFPs are consistent with the goals and objectives of the FMP, would not be detrimental to the well-being of any stocks of fish harvested, and would have no significant environmental impacts. The draft EA also concludes that the proposed experimental fishery would not be detrimental to Essential Fish Habitat, marine mammals, or protected species.

EFPs would be issued to up to 31 vessels exempting them from portions of Rolling Closure Area III, Cashes Ledge Closure Area, WGOM, GB CA I, and GB CA II, the haddock trip limit, and the 3,600-hook-limit restrictions of the FMP.

Regulations under the Magnuson-Stevens Fishery Conservation and Management Act require publication of this notification to provide interested parties the opportunity to comment on applications for proposed EFPs.

Authority: Authority: 16 U.S.C. 1801 et seq.

Dated: April 19, 2004.
Alan D. Risenhoover,
Acting Director, Office of Sustainable Fisheries, National Marine Fisheries Service.

[FR Doc. E4-906 Filed 4-21-04; 8:45 am]

BILLING CODE 3510-22-S